DEPARTMENT OF ENERGY

Federal Energy Regulatory Commission

[Docket No. RP02-356-004]

Canyon Creek Compression Company; Notice of Filing of Refund Report

August 12, 2003.

Take notice that on August 8, 2003, Canyon Creek Compression Company (Canyon) filed a refund report in Docket No. RP02-356-000.

Canyon states that the filing and refunds were made to comply with the Commission's order approving the Stipulation and Agreement (Settlement) in the captioned docket issued on May 23, 2003. Canyon states that these amounts were paid by Canyon on July 18, 2003.

Canyon further states that the refund report summarizes transportation refund amounts for the period December 1, 2002 through May 31, 2003 pursuant to Article II of the Settlement.

Canyon states that copies of its filing are being mailed to its customers, interested state commissions and all parties set out on the Commission's official service list in Docket No. RP02-356.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eFiling (FERRIS) link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 19, 2003.

Magalie R. Salas,
Secretary.

[FR Doc. 03-21098 Filed 8-15-03; 8:45 am]

BILLING CODE 6717-01-P